DEPARTMENT OF DEFENSE

Department of the Navy

Notice of Partially Closed Meeting of the Naval Research Advisory Committee; Correction

AGENCY: Department of the Navy, DoD.

ACTION: Notice; correction.

SUMMARY: The Department of the Navy published a document in the Federal Register of November 14, 2007, announcing a partially closed meeting of the Naval Research Advisory Committee (NRAC). The dates of the meeting contained in the document have changed.

FOR FURTHER INFORMATION CONTACT: Mr. William H. Ellis, Jr., Program Director, Naval Research Advisory Committee, 875 North Randolph Street, Arlington, VA 22203-1995; telephone: 703-696-5775.

Correction

In the Federal Register of November 14, 2007, in FR Doc. E7-22200, make the following changes:

1. In the second column, on page 64060, correct the second sentence of the SUMMARY to read:

“With the exception of two unclassified sessions on December 19, 2007 from 2 p.m. to 3 p.m. and from 3 p.m. to 4 p.m., all other sessions on December 18, 2007 and December 19, 2007 will include discussions involving proprietary information regarding technology applications and systems under development in the private sector between competing companies and/or information classified at the SECRET level that is devoted to intelligence briefings; emerging threats posed by potential adversaries; the exploitation of physical vulnerabilities; the tactical applications of known and emerging technologies; an assessment of the emerging concepts in such areas as: Training, S&T funding allocation, technology monitoring, progress assessments, and probable timeframes for transformation and implementation; the challenges raised with the utilization and fielding of various technology applications; and a security briefing that will discuss security policies and procedures, and counterintelligence information classified at the SECRET level.”

2. In the third column, on page 64060, correct the DATES caption to read:

“DATES: The Winter Meetings will be held on Tuesday, December 18, 2007 and Wednesday, December 19, 2007. The open sessions of the meeting will be held on Wednesday, December 19, 2007, from 2 p.m. to 3 p.m. and from 3 p.m. to 4 p.m. The closed sessions will be held all day on Tuesday, December 18, 2007, and on Wednesday, December 19, 2007, from 8 a.m. to 2 p.m. and 4 p.m. to 4:15 p.m.”

Dated: November 20, 2007.
T. M. Cruz,
Lieutenant, Judge Advocate Generals Corps, U.S. Navy, Federal Register Liaison Officer.

[FR Doc. E7-22990 Filed 11-26-07; 8:45 am]

BILLING CODE 3810-FF-P